DEPARTMENT OF COMMERCE

Bureau of Economic Analysis

Proposed Information Collection; Comment Request; Foreign Ocean Carriers' Expenses in the United States

ACTION: Notice.

SUMMARY: The Department of Commerce, as part of its continuing effort to reduce paperwork and respondent burden, invites the general public and other Federal agencies to comment on proposed and/or continuing information collections, as required by the Paperwork Reduction Act of 1995.

DATES: Written comments must be submitted on or before 5:00 p.m. August 20, 2012.

ADDRESSES: Direct all written comments to Jennifer Jessup, Departmental Paperwork Clearance Officer, Department of Commerce, Room 6616, 14th and Constitution Avenue NW., Washington, DC 20230, or via the Internet at jjessup@doc.gov.

FOR FURTHER INFORMATION CONTACT: Direct requests for additional information or copies of the survey and instructions to Christopher Emond, Chief, Special Surveys Branch, Balance of Payments Division, (BE-50), Bureau of Economic Analysis, U.S. Department of Commerce, Washington, DC 20230; phone: (202) 606-9826; fax: (202) 606-5318; or via the Internet at christopher.emond@bea.gov.

SUPPLEMENTARY INFORMATION:

I. Abstract

Form BE-29, Foreign Ocean Carriers' Expenses in the United States, obtains annual data from U.S. agents that handle 40 or more port calls by foreign ocean vessels and the covered expenses for all foreign ocean vessels handled by the U.S. agent were $250,000 or more. U.S. agents that handle fewer than 40 port calls or where the total annual covered expenses for all foreign ocean vessels handled by the U.S. agent are below $250,000 are exempt from reporting. The data collected are cut-off sample data. The Bureau of Economic Analysis (BEA) estimates expenses for non-respondents.

The data are needed to monitor U.S. international trade in transportation services, to analyze its impact on the U.S. economy and foreign economies, to compile and improve the U.S. economic accounts, and to support U.S. commercial policy on transportation services, conduct trade promotion, and improve the ability of U.S. businesses to identify and evaluate market opportunities.

Survey forms will be sent to respondents each year; responses will be due within 90 days after the close of the calendar year. The data from the survey are primarily intended as general purpose statistics. They are needed to answer any number of research and policy questions related to foreign ocean carriers' expenses in the United States. There are no changes proposed to the form or instructions.

II. Method of Collection

The surveys are sent to the respondents by U.S. mail; the surveys are also available from the BEA Web site. Respondents return the surveys one of four ways: U.S. mail, electronically using BEA's electronic collection system (eFile), fax, or email.

III. Data

OMB Number: 0608-0012.

Form Number: BE-29.

Type of Review: Regular submission.

Affected Public: Businesses or other for-profit organizations.

Estimated Number of Respondents: 149 annually.

Estimated Time per Response: 4 hours.

Estimated Total Annual Burden Hours: 596 hours.

Estimated Total Annual Cost to Public: $0.

Respondent's Obligation: Mandatory.

Legal Authority: The International Investment and Trade in Services Survey Act, 22 U.S.C. 3101-3108, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Glenna Mickelson,
Management Analyst, Office of Chief Information Officer.

[FR Doc. 2012-15094 Filed 6-20-12; 8:45 am]

BILLING CODE 3510-06-P